DEPARTMENT OF ENERGY

Office of Energy Efficiency and Renewable Energy

[Case No. CR-006]

Notice of Petition for Waiver of AHT Cooling Systems GmbH and AHT Cooling Systems USA Inc. From the Department of Energy Commercial Refrigerator, Freezer, and Refrigerator-Freezer Test Procedures and Partial Granting of an Interim Waiver; Withdrawal

AGENCY: Office of Energy Efficiency and Renewable Energy, Department of Energy.

ACTION: Notice of petition for waiver, partial granting of an interim waiver, and request for public comment; withdrawal.

SUMMARY: The U.S. Department of Energy (DOE) is withdrawing its notice of petition for waiver, partial granting of an interim waiver, and request for public comment for AHT Cooling Systems GmbH and AHT Cooling Systems USA Inc. (“AHT”) from the commercial refrigerator, freezer, and refrigerator-freezer (“CRE”) test procedures. The notice published on March 28, 2017, included an error in the calculations to determine daily energy consumption in the alternate test procedure and omitted a step needed to accurately capture the entire defrost energy contribution. Therefore, DOE is withdrawing the notice in its entirety and will republish the notice with corrected calculations and associated discussion.

DATES: The notice published at 82 FR 15345 on March 28, 2017, is withdrawn as of April 12, 2017.

FOR FURTHER INFORMATION CONTACT: Mr. Bryan Berringer, U.S. Department of Energy, Building Technologies Office, Mailstop EE-5B, 1000 Independence Avenue SW., Washington, DC 20585-0121. Telephone: (202) 586-0371. Email: AS_Waiver_Request@ee.doe.gov.

Johanna Jochum, U.S. Department of Energy, Office of the General Counsel, Mail Stop GC-33, Forrestal Building, 1000 Independence Avenue SW., Washington, DC 20585-0103. Telephone: (202) 287-63007. Email: Johanna.Jochum@hq.doe.gov.

SUPPLEMENTARY INFORMATION: DOE is withdrawing its notice of petition for waiver, partial granting of an interim waiver, and request for public comment for AHT from the CRE test procedures. The notice published on March 28, 2017, included an error in the calculations to determine daily energy consumption in the alternate test procedure. 82 FR 15345, 15348. Specifically, the notice included an error in the calculation of tDS, the sum of defrost time per week. The notice incorrectly showed that value calculated as the duration of one defrost cycle divided by the maximum number of defrosts per week. The correct calculation would be the duration of one defrost cycle multiplied by the maximum number of defrosts per week.

In addition, the notice omitted the test methodology instructions to capture the entire defrost operation. As published, the test period would only capture the defrost itself and not any pre-cooling or temperature recovery periods that would use more energy along with the defrost.

Because of this error and omission, DOE is withdrawing the March 28, 2017, notice in its entirety and will republish the notice to correct the error. While DOE works to expeditiously correct and republish the interim waiver, AHT's original application will be considered pending and DOE's enforcement policy on test procedure waivers will apply.¹

¹ For additional information on DOE's enforcement policy pertaining to test procedure waivers, see https://www.energy.gov/gc/downloads/enforcement-policy-application-waivers-and-waiver-process.

Issued in Washington, DC, on April 6, 2017.
Kathleen B. Hogan,
Deputy Assistant Secretary for Energy Efficiency, Energy Efficiency and Renewable Energy.

[FR Doc. 2017-07368 Filed 4-11-17; 8:45 am]

BILLING CODE 6450-01-P